DEPARTMENT OF HEALTH AND HUMAN SERVICES

Centers for Disease Control and Prevention

[Program Announcement 01034]

Cooperative Agreement for a Program To Prevent Injuries Among Older Adults; Notice of Availability of Funds

A. Purpose

The Centers for Disease Control and Prevention (CDC) announces the availability of fiscal year (FY) 2001 funds for a cooperative agreement to enhance the activities of an existing Resource Center with proven capacity and experience in the area of older adult injury prevention. This program addresses the “Healthy People 2010” focus area of Injury and Violence Prevention. The purpose of this program is to reduce injuries among older adults.

B. Eligible Applicants

Applications may be submitted by public and private nonprofit organizations and by governments and their agencies; that is, universities, colleges, research institutions, hospitals, other public and private nonprofit organizations, State and local governments or their bona fide agents, and federally recognized Indian tribal governments, Indian tribes, or Indian tribal organizations.

Note: Title 2 of the United States Code, Chapter 26, Section 1611 states that an organization, described in section 501(c)(4) of the Internal Revenue Code of 1986, that engages in lobbying activities is not eligible to receive Federal funds constituting an award, grant, cooperative agreement, contract, loan, or any other form.

C. Availability of Funds

Approximately $234,000 is available in FY 2001 to fund one award. It is expected that the award will begin on or about September 30, 2001, and will be made for a 12-month budget period within a project period of up to 5 years. Funding estimates may change.

Continuation awards within an approved project period will be made on the basis of satisfactory progress as evidenced by required reports and the availability of funds.

D. Program Requirements

In conducting the activities to achieve the purpose of this program, the recipient will be responsible for the activities under 1 (Recipient Activities), and CDC will be responsible for the activities under 2 (CDC Activities).

1. Recipient Activities

(a) Expand and strengthen existing links and collaborative relationships with agencies, businesses, professional organizations, and academic institutions that focus on injury prevention among older adults.

(b) Evaluate the quality of currently available resources on older adult injuries and injury prevention strategies using standardized, systematic methods including but not limited to systematic literature reviews and reviews by subject experts.

(c) Identify gaps in current knowledge, research needs and/or needs for new technology. Design a systematic plan of action to address these needs that will expand the injury prevention field.

(d) Increase and broaden dissemination of injury prevention information by providing technical assistance and training to businesses, national, state and/or local agencies to translate research into injury prevention practice.

(e) Conduct qualitative research of injury prevention strategies. Based on the results, develop and evaluate educational programs designed to increase awareness and knowledge about preventing injuries among minority seniors.

2. CDC Activities

(a) Provide technical consultation, scientific assistance, and advice on all aspects of recipient activities.

(b) Collaborate, when necessary, in designing and analyzing results of proposed qualitative research to identify gaps in current knowledge, and assist in developing a systematic plan of action to address these needs.

(c) Provide scientific assistance, if necessary, about appropriate research and prevention methods to prevent older adult injuries.

(d) If applicable, the CDC Institutional Review Board (IRB) will review and approve any research protocol initially and on at least an annual basis until the research project is completed.

E. Application Content

Use the information in the Program Requirements, Other Requirements, and Evaluation Criteria sections to develop the application content. Your application will be evaluated on the criteria listed, so it is important to follow them in laying out your program plan. The narrative should be no more than 25 double-spaced pages, printed on one side, with one inch margins, and unreduced 12 pt Times Roman (or equivalent size) font. Number each page consecutively and provide a complete table of contents. The entire application with appendices should be no longer than 70 pages total. The application must include a one-page abstract and summary of the proposed effort.

F. Submission and Deadline

Application

Submit the original and two copies of PHS 5161-1 (OMB Number 0937-0189). Forms are available at the following Internet address: www.cdc.gov, or in the application kit. On or before June 18, 2001, submit the application to the Grants Management Specialist identified in the “Where To Obtain Additional Information” section of this announcement.

Deadline: Applications shall be considered as meeting the deadline if it is either:

(a) Received on or before the deadline date; or

(b) Sent on or before the deadline date and received in time for submission to the independent review group. (Applicant must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria

Each application will be evaluated against the following criteria by an independent review group appointed by CDC.

1. Background and Need (15 percent)

The extent to which the applicant provides background information about their experience and capacity to accomplish the program, as demonstrated by relevant past or current injury prevention activities in this area.

2. Goals, Objectives, and Methods (30 percent)

The extent to which the applicant describes the overall goals and indicates the outcomes expected at the end of the project period. The extent to which the applicant describes the specific program objectives needed to accomplish each goal.

Where applicable, the extent to which the applicant conforms to the CDC Policy requirements regarding the inclusion of women, ethnic, and racial groups in the proposed research. This includes:

a. The proposed plan for the inclusion of both sexes and racial and ethnic minority populations for appropriate representation.

b. The proposed justification when representation is limited or absent.

c. A statement as to whether the design of the study is adequate to measure differences when warranted.

d. A statement as to whether the plans for recruitment and outreach for study participants includes the process of establishing partnerships with community(ies) and recognition of mutual benefits.

3. Evaluation (25 percent)

The extent to which the applicant provides detailed descriptions for evaluation of each program component and for the overall operation of the Resource Center activities, including process, impact, and outcome evaluation measures. The extent to which the applicant demonstrates that there will be available staff with the expertise and capacity to perform the proposed evaluation.

4. Collaboration (15 percent)

The extent to which the applicant describes any proposed collaboration with a broad range of other entities, including academic institutions, State or local agencies, associations, professional organizations, local businesses, health care providers, civic organizations, local public officials, and the media.

The extent to which the applicant provides letters of commitment from each outside entity documenting their willingness, skills, and capacities to fulfil their specific roles and responsibilities.

The extent to which the applicant provides a clear description of the working relationships between the program and its partners.

5. Facilities, Staff, and Resources (15 percent)

The extent to which the applicant describes the facilities and resources that are available for this program.

The extent to which applicant describes proposed staffing, and includes job descriptions and curriculum vitae indicating the applicant's ability to carry out the objectives of the program. Descriptions should include the position titles, education and experience, capabilities, and the percentage of time each person will devote to the program.

6. Budget and Justification (not scored)

The extent to which the applicant provides a detailed budget and narrative justification consistent with the stated objectives and planned program activities.

7. Human Subjects (not scored)

The extent to which the application adequately addresses the requirements of Title 45 CFR Part 46 for the protection of human subjects.

H. Other Requirements

Technical Reporting Requirements

Provide CDC with original plus two copies of

1. semiannual progress reports;

2. financial status report, no more than 90 days after the end of the budget period; and

3. final financial status and performance reports, no more than 90 days after the end of the project period. Send all reports to the Grants Management Specialist identified in the “Where To Obtain Additional Information” section of this announcement.

Projects that involve the collection of information from 10 or more individuals and funded by cooperative agreement will be subject to review by the Office of Management and Budget (OMB) under the Paperwork Reduction Act.

The following additional requirements are applicable to this program. For a complete description of each, see Attachment I of the announcement.

AR-1 Human Subjects Requirements

AR-2 Requirements for Inclusion of Women and Racial and Ethnic Minorities in Research

AR-7 Executive Order 12372 Review

AR-8 Public Health System Reporting Requirements

AR-9 Paperwork Reduction Act Requirements

AR-10 Smoke-Free Workplace Requirements

AR-11 Healthy People 2010

AR-12 Lobbying Restrictions

AR-13 Prohibition on Use of CDC Funds for Certain Gun Control Activities

AR-21 Small, Minority, Women-Owned Businesses

AR-22 Research Integrity

I. Authority and Catalog of Federal Domestic Assistance Number

This program is authorized under section 301(a), 317(k)(2), 391, 392, 394, and 394A [42 U.S.C. 241(a), 247b(k)(2), 280b, 280b-1, 280b-2, 280b-3] of the Public Health Service Act, as amended. The Catalog of Federal Domestic Assistance number is 93.136.

J. Where to Obtain Additional Information

This and other CDC announcements can be found on the CDC home page on the Internet: http://www.cdc.gov Click on “Funding” then “Grants and Cooperative Agreements.” To receive additional written information and to request an application kit, call 1-888-GRANTS4 (1-888-472-6874). You will be asked to leave your name and address and will be instructed to identify the Announcement number of interest.

To obtain business management technical assistance, contact: Angelia Hill, Grants Management Specialist, Grants Management Branch, Procurement and Grants Office, Announcement 01034, Centers for Disease Control and Prevention (CDC), 2920 Brandywine Road, Suite 3000, Atlanta, GA 30341-4146, Telephone (404) 488-2785, Email address aph8@cdc.gov.

For program technical assistance, contact: Judy Stevens, Ph.D., Centers for Disease Control and Prevention, National Center for Injury Prevention and Control, 4770 Buford Highway N.E., Mailstop K63, Atlanta, GA 30341-3724, Telephone (770) 488-4649, Email: jas2@cdc.gov.

Dated: April 11, 2001.
John L. Williams,
Director, Procurement and Grants Office, Centers for Disease Control and Prevention (CDC).

[FR Doc. 01-9565 Filed 4-17-01; 8:45 am]

BILLING CODE 4163-18-P